INTERNATIONAL TRADE COMMISSION

[USITC SE-17-011]

Government in the Sunshine Act Meeting Notice

Agency Holding the Meeting: United States International Trade Commission.

Time and Date: March 28, 2017 at 11:00 a.m.

Place: Room 101, 500 E Street SW., Washington, DC 20436, Telephone: (202) 205-2000.

Status: Open to the public.

Matters To Be Considered

1. Agendas for future meetings: None.

2. Minutes.

3. Ratification List.

4. Vote in Inv. Nos. 701-TA-318 and 731-TA-538 and 561 (Fourth Review) (Sulfanilic Acid from China and India). The Commission is currently scheduled to complete and file its determinations and views of the Commission by April 17, 2017.

5. Outstanding action jackets: None.

In accordance with Commission policy, subject matter listed above, not disposed of at the scheduled meeting, may be carried over to the agenda of the following meeting.

By order of the Commission.
Issued: March 21, 2017.
William R. Bishop,
Supervisory Hearings and Information Officer.

[FR Doc. 2017-05892 Filed 3-21-17; 4:15 pm]

BILLING CODE 7020-02-P